DEPARTMENT OF THE INTERIOR

Bureau of Land Management

[NV-952-01-1420-BJ]

Filing of Plats of Survey; Nevada

AGENCY: Bureau of Land Management, Interior.

ACTION: Notice.

SUMMARY: The purpose of this notice is to inform the public and interested State and local government officials of the filing of Plats of Survey in Nevada.

EFFECTIVE DATES: Filing is effective at 10 a.m. on the dates indicated below.

FOR FURTHER INFORMATION CONTACT: Robert M. Scruggs, Chief, Branch of Geographic Services, Bureau of Land Management (BLM), Nevada State Office, 1340 Financial Blvd., P.O. Box 12000, Reno, Nevada 89520, 775-861-6545.

SUPPLEMENTARY INFORMATION: 1. The Plat of Survey of the following described lands will be officially filed at the Nevada State Office, Reno, Nevada on the first business day after 30 days from the publication of this notice: The plat, representing the dependent resurvey of a portion of the east boundary of Township 11 South, Range 69 East, and an independent resurvey of a portion of the south boundary and a portion of the subdivisional lines, superseding section 36, as shown on the plat approved December 2, 1881, Township 11 South, Range 69 East, of the Mount Diablo Meridian, in the state of Nevada, under Group No. 796, was accepted May 8, 2001.

This survey was executed to meet certain needs of the Bureau of Land Management and Nevada Land and Resource Company.

2. Subject to valid existing rights, the provisions of existing withdrawals and classifications, the requirements of applicable laws, and other segregations of record, these lands are open to application, petition, and disposal, including application under the mineral leasing laws. All such valid applications received on or prior to official filing of the Plat of Survey described in paragraph 1, shall be considered as simultaneously filed at that time. Those received thereafter shall be considered in order of filing.

3. The above-listed surveys are now the basic record for describing the lands for all authorized purposes. These surveys have been placed in the open files in the BLM Nevada State Office and are available to the public as a matter of information. Copies of the surveys and related field notes may be furnished to the public upon payment of the appropriate fees.

Dated: May 10, 2001.
Robert M. Scruggs,
Chief Cadastral Surveyor, Nevada.

[FR Doc. 01-12964 Filed 5-22-01; 8:45 am]

BILLING CODE 4310-HC-P